DEPARTMENT OF TRANSPORTATION

Office of the Secretary

46 CFR Parts 10, 15, and 67

49 CFR Part 40

49 CFR 571

RIN 2105-AC49, 2127-AH07; 2115-AF23; 2115-AF88

Procedures for Transportation Workplace Drug and Alcohol Testing Programs; Metric Conversion of Tire Standards; Licensing and Manning for Officers of Towing Vessels; Citizenship Standards for Vessel Ownership and Financing: Notice Concerning Review

AGENCIES: Office of the Secretary, Transportation, National Highway Traffic Safety Administration, and United States Coast Guard, DOT.

ACTION: Notice concerning review.

SUMMARY: In accordance with the memorandum of January 20, 2001, from the Assistant to the President and Chief of Staff, entitled “Regulatory Review Plan,” published in the Federal Register on January 24, 2001, the Department has postponed for 60 days the effective dates of a number of final rules that were published before January 20, 2001, but have not yet gone into effect. This notice concerns the status of four regulations for which the effective dates were not postponed.

FOR FURTHER INFORMATION CONTACT: Robert C. Ashby, Deputy Assistant General Counsel for Regulation and Enforcement, Office of General Counsel, Department of Transportation, 400 7th Street, SW., Washington, DC, 20590. Telephone 202-366-9310.

SUPPLEMENTARY INFORMATION: In accordance with the memorandum of January 20, 2001, from the Assistant to the President and Chief of Staff, entitled “Regulatory Review Plan,” published in the Federal Register on January 24, 2001, the Department has postponed for 60 days the effective dates of a number of final rules that were published before January 20, 2001, but have not yet gone into effect. The four rules mentioned in this notice were published before January 20, 2000 and have not yet gone into effect. However, for the reasons stated below, we are not postponing their effective dates.

The Department published its new drug and alcohol testing regulation (49 CFR part 40) on December 19, 2000. A portion of this rulemaking went into effect on January 18, 2001, and it consequently is not subject to the withdrawal requirement of the Chief of Staff's memorandum. The remainder of this rule goes into effect August 1, 2001. The Department does not believe that it is necessary, in order to comply with the intent of the memorandum, to extend the effective date of the rule to a date 60 days after August 1. The time between now and August 1 affords ample opportunity for the Department to review the rule before it becomes effective. In addition, since the August 1 effective date was selected, in part, to coincide with the date on which use of a new Department of Health and Human Services drug test collection form becomes mandatory, postponing the effective date could lead to confusion and mistakes in the administration of drug tests.

The National Highway Traffic Safety Administration (NHTSA) rule on metric conversion of tire standards was published May 27, 1998. The rule converts English measurements in NHTSA rules concerning tire standards to metric measurements. Voluntary compliance was authorized upon publication. The final rule becomes effective May 27, 2003. Because of the very long period of time before this rule becomes effective, the Department does not believe that it is necessary, in order to comply with the intent of the memorandum, to extend the effective date of the rule to a date 60 days after May 27, 2003. The time between now and May 27, 2003, affords ample opportunity for the Department to review the rule before it becomes effective.

The United States Coast Guard (USCG) Interim Final Rule on licensing and manning for officers of towing vessels was published on November 19, 1999. The rule creates new licenses, with levels of qualification and enhanced training and operating experience requirements for these personnel. On October 27, 2000, the effective date of the rule was delayed until May 21, 2001, in order to allow time to issue guidance for new licenses and revised training criteria. Because of the period of time before this rule becomes effective, and the fact that the effective date has already been postponed beyond 60 days from today's date, the Department does not believe that it is necessary, in order to comply with the intent of the memorandum, to extend the effective date of the rule to a date 60 days after May 21, 2001.

The USCG rule on citizenship standards for vessel ownership and financing was issued on December 7, 2000, and becomes effective on October 1, 2001. Here again, there is a substantial period of time before this rule becomes effective, and the Department does not believe that it is necessary to extend the effective date of the rule further, in order to comply with the intent of the memorandum. The time between now and October 1, 2001, affords ample opportunity for the Department to review the rule before it becomes effective.

All of these rules will be subject to review by the Department on the same basis as the rules the effective dates of which were postponed pursuant to the Chief of Staff's memorandum.

Issued this 2nd day of February at Washington, DC.
Rosalind A. Knapp,
Acting General Counsel.

[FR Doc. 01-3399 Filed 2-8-01; 8:45 am]

BILLING CODE 4910-01-M